FEDERAL COMMUNICATIONS COMMISSION

47 CFR Part 73

[MB Docket No. 18-126, RM-11800; DA 18-418]

Television Broadcasting Services; Bridgeport and Stamford, Connecticut

AGENCY: Federal Communications Commission.

ACTION: Proposed rule.

SUMMARY: The Commission has before it a petition for rulemaking filed by Connecticut Public Broadcasting, Inc. (Petitioner or CPBI)), licensee of television station WEDW, channel *49, Bridgeport, Connecticut (WEDW). WEDW operates on a shared basis with commercial television station WZME, Bridgeport, Connecticut (WZME), licensed to NRJ TV NY License Co. (NRJ). Prior to channel sharing, WZME was licensed on channel 42 at Bridgeport; NRJ has relinquished its channel 42 spectrum pursuant to a successful license relinquishment bid in the broadcast incentive auction and the spectrum is now being licensed to new 600 MHz Band flexible use licensees. CPBI requests an amendment of the DTV Table of Allotments to change WEDW's community of license from Bridgeport to Stamford, Connecticut. Petitioner further requests modifications of WEDW's license to specify Stamford as its community of license. CPBI asserts that the proposed reallotment will not deprive Bridgeport of its sole broadcast station as it will continue to be served by shared station WZME on channel 49 at Bridgeport. CPBI does not propose to change WEDW's licensed facilities as part of its allotment request and its existing principal community contour will cover the entire community of Stamford from the station's currently-licensed transmission facilities.

DATES: Comments must be filed on or before August 6, 2018, and reply comments on or before August 20, 2018.

ADDRESSES: Federal Communications Commission, Office of the Secretary, 445 12th Street SW, Washington, DC 20554. In addition to filing comments with the FCC, interested parties should serve counsel for petitioner as follows: Community Public Broadcasting, Inc. c/o Garvey Schubert Barer, Esq., and Steven C. Schaffer, Esq., 1000 Potomac Street NW, Suite 200, Washington, DC 20004.

FOR FURTHER INFORMATION CONTACT: Darren Fernandez, Darren.Fernandez@fcc.gov, (202) 418-2769, Video Division, Media Bureau.

SUPPLEMENTARY INFORMATION: This is a synopsis of the Commission's Notice of Proposed Rule Making, MB Docket No. 18-126, adopted April 25, 2018, and released April 26, 2018. The full text of this document is available for public inspection and copying during normal business hours in the FCC's Reference Information Center at Portals II, CY-A257, 445 12th Street SW, Washington, DC 20554. This document will also be available via ECFS (http://www.fcc.gov/cgb/ecfs/). (Documents will be available electronically in ASCII, Word 97, and/or Adobe Acrobat.) To request this document in accessible formats (computer diskettes, large print, audio recording, and Braille), send an email to fcc504@fcc.gov or call the Commission's Consumer and Governmental Affairs Bureau at (202) 418-0530 (voice), (202) 418-0432 (TTY). This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding. Members of the public should note that from the time a Notice of Proposed Rule Making is issued until the matter is no longer subject to Commission consideration or court review, all ex parte contacts (other than ex parte presentations exempt under 47 CFR 1.1204(a)) are prohibited in Commission proceedings, such as this one, which involve channel allotments. See 47 CFR 1.1208 for rules governing restricted proceedings.

For information regarding proper filing procedures for comments, see 47 CFR 1.415 and 1.420.

List of Subjects in 47 CFR Part 73

Television.

Federal Communications Commission.
Barbara Kreisman,
Chief, Video Division, Media Bureau.

Proposed Rules

For the reasons discussed in the preamble, the Federal Communications Commission proposes to amend 47 CFR part 73 as follows:

PART 73—RADIO BROADCAST SERVICES

1. The authority citation for Part 73 continues to read as follows:

Authority: 47 U.S.C. 154, 303, 309, 310, 334, 336, and 339.

§ 73.622 [Amended]

2. Section 73.622(i), the Post-Transition Table of DTV Allotments under Connecticut is amended by adding the entry for Stamford to read as follows:

§ 73.622 Digital television table of allotments.

* * * * *

(i) Post-Transition Table of DTV Allotments.

* * * * *

CONNECTICUT
* * * * *
Stamford | * 49
* * * * *

* * * * *

[FR Doc. 2018-14260 Filed 7-5-18; 8:45 am]

BILLING CODE 6712-01-P